DEPARTMENT OF JUSTICE

[OMB Number 1121-0255]

Agency Information Collection Activities; Proposed eCollection eComments Requested; Reinstatement, With Change, of a Previously Approved Collection for Which Approval Has Expired; 2022 Census of Law Enforcement Training Academies (CLETA)

AGENCY: Bureau of Justice Statistics, Department of Justice.

ACTION: 60-Day notice.

SUMMARY: The Bureau of Justice Statistics, Office of Justice Programs, Department of Justice (DOJ), will be submitting the following information collection request to the Office of Management and Budget (OMB) for review and approval in accordance with the Paperwork Reduction Act of 1995.

DATES: Comments are encouraged and will be accepted for 60 days until January 17, 2023.

FOR FURTHER INFORMATION CONTACT: If you have comments especially on the estimated public burden or associated response time, suggestions, or need a copy of the proposed information collection instrument with instructions or additional information, please contact Emily Buehler (email: emily.buehler@usdoj.gov; telephone: 202-305-2667), Bureau of Justice Statistics, 810 Seventh Street NW, Washington, DC 20531.

SUPPLEMENTARY INFORMATION: Written comments and suggestions from the public and affected agencies concerning the proposed collection of information are encouraged. Your comments should address one or more of the following four points:

• Evaluate whether the proposed collection of information is necessary for the proper performance of the functions of the Bureau of Justice Statistics, including whether the information will have practical utility;

• Evaluate the accuracy of the agency's estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of This Information Collection

1. Type of Information Collection: Reinstatement, with change, of a previously approved collection for which approval has expired.

2. Title of the Form/Collection: 2022 Census of Law Enforcement Training Academies (CLETA).

3. Agency form number, if any, and the applicable component of the Department of Justice sponsoring the collection: The form number is CJ-52. The applicable component within the Department of Justice is the Bureau of Justice Statistics (BJS), in the Office of Justice Programs.

4. Affected public who will be asked or required to respond, as well as a brief abstract: Respondents will include all state and local law enforcement training academies in the United States that provide basic training to law enforcement recruits.

Abstract: BJS has conducted the CLETA regularly since 2002. The 2022 CLETA will be the fifth administration. Historically, the CLETA generates an enumeration of all state and local training academies that provide basic law enforcement training in the United States. The CLETA provides details about the instructors, curricula, resources, and recruits at the approximately 750 training academies operating nationally. The survey asks about the operating entity; resources available to recruits; total operating budget; full-time and part-time instructors or trainers and their education, sworn officer experience, certifications, and ongoing training; sex, race and Hispanic origin, prior educational attainment, and veteran status of recruits starting and completing training; and the length and content of basic training curricula offered at the academy.

5. An estimate of the total number of respondents and the amount of time estimated for an average respondent to respond: BJS estimates approximately 750 law enforcement academies with a respondent burden of about 2 hours per academy to complete the survey form and about 10 minutes per agency of data quality follow-up time for approximately 450 of those academies.

6. An estimate of the total public burden (in hours) associated with the collection: There are an estimated 1,575 total burden hours associated with this information collection.

If additional information is required, contact: Robert Houser, Department Clearance Officer, Policy and Planning Staff, Justice Management Division, United States Department of Justice, Two Constitution Square, 145 N Street NE, 3E.206, Washington, DC 20530.

Dated: November 8, 2022.
Robert Houser,
Department Clearance Officer for PRA, Policy and Planning Staff, Office of the Chief Information Officer, U.S. Department of Justice.

[FR Doc. 2022-24782 Filed 11-14-22; 8:45 am]

BILLING CODE 4410-18-P